FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Blade Express, Inc. dba B.E. Logistics, Inc. dba BE Logistics dba Belogistics dba Core Logistics (NVO), 12911 Simms Avenue, Hawthorn, CA 90250, Officers: Kathleen Martin, Secretary (QI), Daniel Dvorsky, President/Treasurer, Application Type: New NVO License

Global Expeditors, Limited Liability Company (NVO & OFF), 4 Englehard Avenue, Avenel, NJ 07001, Officer: Robert J. O'Neill, Member (QI), Application Type: QI Change

M2K Consulting, Inc. dba Argo Shipping Company (NVO & OFF), 621 East Olive Avenue, Suite 104, Burbank, CA 91501, Officer: Abet Mehrabian, Secretary (QI), Application Type: New NVO & OFF License

Navterra Inc. (OFF), 2320 Marinship Way, Suite 120, Sausalito, CA 94965, Officers: Maureen D. Agius, Vice President (QI), Matti F. Klintberg, Secretary, Application Type: New OFF License

Total Global Solutions, Inc. (NVO & OFF), 4290 Bells Ferry Road, #244, Suite 106, Kennesaw, GA 30144, Officers: Dennis R. Smith, CEO (QI), Kevin L. Miller, Secretary, Application Type: QI Change

Triple Eagle Logistics Inc. dba Triple Eagle Logistic Canada Inc. (NVO & OFF), 17890 Castleton Street, Suite 367, City of Industry, CA 91748, Officers: Donald Hackney, Vice President (QI), Hongyi Deng, President, Application Type: New NVO & OFF License

WMO Logistics Inc. (NVO & OFF), 16622 Amberwood Way, Cerritos, CA 90703, Officer: Dino Balgemino, President (QI), Application Type: New NVO & OFF License

Dated: April 12, 2013.
By the Commission.
Rachel E. Dickon.
Assistant Secretary.

[FR Doc. 2013-09087 Filed 4-17-13; 8:45 am]

BILLING CODE 6730-01-P